DEPARTMENT OF HEALTH AND HUMAN SERVICES

Food and Drug Administration

[Docket No. FDA-2012-D-0429]

Agency Information Collection Activities; Proposed Collection; Comment Request; Meetings With Industry and Investigators on the Research and Development of Tobacco Products

Correction

In notice document 2025-11948, appearing on page 27636, in the issue of Friday, June 27, 2025, the subject line is corrected to read as set forth above.

[FR Doc. C1-2025-11948 Filed 7-8-25; 8:45 am]

BILLING CODE 0099-10-P